DEPARTMENT OF DEFENSE

Office of the Secretary

[Docket ID DoD-2022-OS-0063]

Submission for OMB Review; Comment Request

AGENCY: Office of the Under Secretary of Defense for Personnel and Readiness (OUSD(P&R)), Department of Defense (DoD).

ACTION: 30-Day information collection notice.

SUMMARY: The DoD has submitted to the Office of Management and Budget (OMB) for clearance the following proposal for collection of information under the provisions of the Paperwork Reduction Act.

DATES: Consideration will be given to all comments received by January 12, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Survey on the Strengths and Challenges of Military Relationships; OMB Control Number 0704-SCMR.

Type of Request: New.

Number of Respondents: 80,000.

Responses per Respondent: 1.

Annual Responses: 80,000.

Average Burden per Response: 15 minutes.

Annual Burden Hours: 20,000.

Needs and Uses: This collection is a DoD-sponsored comprehensive research study on the military-specific risk factors for domestic abuse and the best approaches across the coordinated community response to mitigate those factors. This collection is necessary to identify sustainable solutions to decreasing incidents and preventing violence before it occurs. This project is required by statute and will support (a) the programmatic needs of the sponsoring office: The Family Advocacy Program with Military Community and Family Policy, (b) Congressional requirements per SEC. 549C of the FY21 National Defense Authorization Act, (c) the current administration's priority to address gender-based violence, and (d) implementation of some recommendations contained in the U.S. Government Accountability Office Report 21-289, released May 6, 2021. Domestic abuse can result in devastating personal consequences and societal costs, is incompatible with military values, and reduces mission readiness. The OUSD(P&R) Strategy for 2030 identifies a goal of resilient and adaptive total force. Without this study, the DoD risks continued incidents of domestic abuse across the armed forces. This survey will be fielded with active-duty married service members, active-duty unmarried service members in romantic relationships, and spouses of active-duty service members. Respondents will provide information currently not available from other sources to help DoD understand the strengths and challenges facing military couples, and in particular, the risk factors for and outcomes of military domestic abuse. Survey results will be used by the sponsor to improve the domestic abuse prevention and response system to better serve the needs of today's military couples.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: December 8, 2022.
Kayyonne T. Marston,
Alternate OSD Federal Register Liaison Officer, Department of Defense.

[FR Doc. 2022-26984 Filed 12-12-22; 8:45 am]

BILLING CODE 5001-06-P